DEPARTMENT OF COMMERCE

National Oceanic and Atmospheric Administration

[RTID 0648-XD074]

Management Track Assessment for Bluefish, Deep Sea Red Crab, Longfin Inshore Squid, Scup, Summer Flounder

AGENCY: National Marine Fisheries Service (NMFS), National Oceanic and Atmospheric Administration (NOAA), Commerce.

ACTION: Notice of public meeting.

SUMMARY: NMFS and the Assessment Oversight Panel (AOP) will convene the Management Track Assessment Peer Review Meeting for the purpose of reviewing bluefish, deep sea red crab, longfin inshore squid, scup, and summer flounder. The Management Track Assessment Peer Review is a formal scientific peer-review process for evaluating and presenting stock assessment results to managers for fish stocks in the offshore U.S. waters of the northwest Atlantic. Assessments are prepared by the lead stock assessment analyst and reviewed by an independent panel of independent panel of stock assessment experts. The public is invited to attend the presentations and discussions between the review panel and the scientists who have participated in the stock assessment process.

DATES: The public portion of the Management Track Assessment Peer Review Meeting will be held from June 26, 2023—June 28, 2023. The meeting will conclude on June 28 at 5 p.m. Eastern Standard Time. Please see SUPPLEMENTARY INFORMATION for the daily meeting agenda.

ADDRESSES: The meeting will be held via Google Meet https://meet.google.com/fxa-tmxy-smy.

Meeting number (US) + +1 402-8626

Meeting password: 566 056 608

FOR FURTHER INFORMATION CONTACT: Michele Traver, phone: 508-495-2195; email: michele.traver@noaa.gov.

SUPPLEMENTARY INFORMATION: For further information, please visit the Northeast Fisheries Science Center (NEFSC) website at https://www.fisheries.noaa.gov/event/peer-review-2023-june-management-track-assessments. For additional information about management track assessment peer review, please visit the NEFSC web page at https://www.fisheries.noaa.gov/new-england-mid-atlantic/population-assessments/management-track-stock-assessments.

Daily Meeting Agenda—Management Track Peer Review Meeting

The agenda is subject to change; all times are approximate and may be changed at the discretion of the Meeting Chair.

Monday, June 26, 2023
Time | Subject | Presenter
9:30 a.m.-9:45 a.m | Welcome/Logistics/Conduct of Meeting | Michele Traver, Russ Brown, Cynthia Jones, Chair.
9:45 a.m.-11:15 a.m | Deep Sea Red Crab, Discussion/Questions | Toni Chute, Panel.
11:15 a.m.-11:30 a.m | Break |
11:30 a.m.-12 p.m | Morning Wrap Up, Summary/Discussion | Panel.
12 p.m.-12:15 p.m | Public Comment | Public.
12:15 p.m.-1:15 p.m | Lunch |
1:15 p.m.-3:30 p.m | Scup, Discussion/Questions | Mark Terceiro, Panel.
3:30 p.m.-3:45 p.m | Break |
3:45 p.m.-4:15 p.m | Afternoon Wrap Up, Summary/Discussion | Panel.
4:15 p.m.-4:30 p.m | Public Comment | Public.
4:30 p.m | Adjourn |

Tuesday, June 27, 2023
Time | Subject | Presenter
9:30 a.m.-9:35 a.m | Welcome/Logistics | Michele Traver, Cynthia Jones, Chair.
9:35 a.m.-11:15 a.m | Longfin Inshore Squid, Discussion/Questions | Lisa Hendrickson, Panel.
11:15 a.m.-11:30 a.m | Break. |
11:30 a.m.-12 p.m | Morning Wrap Up, Summary/Discussion | Panel.
12 p.m.-12:15 p.m | Public Comment | Public.
12:15 p.m.-1:15 p.m | Lunch. |
1:15 p.m.-3:30 p.m | Summer flounder, Discussion/Questions | Mark Terceiro, Panel.
3:30 p.m.-3:45 p.m | Break. |
3:45 p.m.-4:15 p.m | Afternoon Wrap Up, Summary/Discussion | Panel.
4:15 p.m.-4:30 p.m | Public Comment | Public.
4:30 p.m | Adjourn. |

Wednesday, June 28, 2023
Time | Subject | Presenter
9:30 a.m.-9:35 a.m | Welcome/Logistics | Michele Traver, Cynthia Jones, Chair.
9:35 a.m.-11:15 a.m | Bluefish, Discussion/Questions | Tony Wood, Panel.
11:15 a.m.-11:30 a.m | Break. |
11:30 a.m.-12 p.m | Morning Wrap Up, Summary/Discussion | Panel.
12 p.m.-12:15 p.m | Public Comment | Public.
12:15 p.m.-1:15 p.m | Lunch. |
1:15 p.m.-4:30 p.m | Report Writing | Panel.
4:30 p.m | Adjourn. |

The meeting is open to the public; however, during the `Report Writing' session on Wednesday, June 28, 2023, at 1:15 p.m. the public should not engage in discussion with the Peer Review Panel.

Special Accommodations

This meeting is physically accessible to people with disabilities. Special requests should be directed to Michele Traver, via email.

Dated: June 8, 2023.
Jennifer M. Wallace,
Acting Director, Office of Sustainable Fisheries, National Marine Fisheries Service.

[FR Doc. 2023-12669 Filed 6-13-23; 8:45 am]

BILLING CODE 3510-22-P